DEPARTMENT OF COMMERCE

National Oceanic and Atmospheric Administration

RIN 0648-XC601

Mid-Atlantic Fishery Management Council; Public Meeting

AGENCY: National Marine Fisheries Service (NMFS), National Oceanic and Atmospheric Administration (NOAA), Commerce.

ACTION: Notice of public meeting.

SUMMARY: The Council's Atlantic Mackerel, Squid, and Butterfish (MSB) Advisory Panel (AP) will meet to develop Fishery Performance Reports for the Atlantic Mackerel, Squid, and Butterfish fisheries in preparation for the Council's setting of specifications for 2014.

DATES: The meeting will be held on Wednesday, April 17, 2013, from 10:30 a.m. to 6 p.m.

ADDRESSES: The meeting will be held at the Hilton Garden Inn Baltimore/Arundel Mills; 7491 New Ridge Rd., Hanover, MD 21076; telephone: (410) 878-7200

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The purpose of the meeting is to create Fishery Performance Reports by the Council's Atlantic Mackerel, Squid, and Butterfish (MSB) Advisory Panel (AP). The intent of these reports is to facilitate structured input from the Advisory Panel members into the Atlantic Mackerel, Squid, and Butterfish specifications process. The Advisory Panel will also review the findings of a recent workshop on squid management and may develop related recommendations.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: March 26, 2013.
Tracey L. Thompson,
Acting Deputy Director, Office of Sustainable Fisheries, National Marine Fisheries Service.

[FR Doc. 2013-07361 Filed 3-28-13; 8:45 am]

BILLING CODE 3510-22-P